DEPARTMENT OF ENERGY

Federal Energy Regulatory Commission

Combined Notice of Filings #1

August 17, 2006.

Take notice that the Commission received the following exempt wholesale generator filings:

Docket Numbers: EG06-71-000.

Applicants: Evergreen Wind Power, LLC.

Description: Evergreen Wind Power LLC's Notice of Self-Certification of Exempt Wholesale Generator Status.

Filed Date: 8/11/2006.

Accession Number: 20060815-0029.

Comment Date: 5 p.m. Eastern Time on Friday, September 1, 2006.

Take notice that the Commission received the following electric rate filings:

Docket Numbers: ER03-719-003; ER03-720-003; ER03-721-003; ER98-830-012.

Applicants: New Athens Generating Company, LLC.

Description: New Athens Generating Co LLC et al submits a Notice of Non-Material Change in Status relating to their upstream indirect ownership.

Filed Date: 8/11/2006.

Accession Number: 20060816-0057.

Comment Date: 5 p.m. Eastern Time on Friday, September 1, 2006.

Docket Numbers: ER05-718-000.

Applicants: California Independent System Operator.

Description: California Independent System Operator Corp. submits its Sixty-Third Report on Market Impacts of Amendment 66, as prepared by the ISO's Department of Market Monitoring.

Filed Date: 8/11/2006.

Accession Number: 20060815-0196.

Comment Date: 5 p.m. Eastern Time on Friday, September 1, 2006.

Docket Numbers: ER05-976-001.

Applicants: FirstEnergy Solutions Corp.

Description: FirstEnergy Solutions Corp. submits a substitute FERC Electric Tariff, First Revised Volume No. 1.

Filed Date: 8/11/2006.

Accession Number: 20060816-0067.

Comment Date: 5 p.m. Eastern Time on Friday, September 1, 2006.

Docket Numbers: ER06-1228-001.

Applicants: Phibro LLC.

Description: Phibro LLC submits its triennial updated market analysis.

Filed Date: 8/11/2006.

Accession Number: 20060815-0030.

Comment Date: 5 p.m. Eastern Time on Friday, September 1, 2006.

Docket Numbers: ER06-1352-000.

Applicants: American Electric Power Services Corp.

Description: Indiana & Michigan Power Co. submits an interconnection and local delivery service agreement with the City of Niles, Michigan.

Filed Date: 8/11/2006.

Accession Number: 20060814-0208.

Comment Date: 5 p.m. Eastern Time on Friday, September 1, 2006.

Docket Numbers: ER06-1354-000.

Applicants: AB Energy, Inc.

Description: AB Energy, Inc. submits its Petition for Acceptance of Initial Tariff, Waivers, and Blanket Authority.

Filed Date: 8/11/2006.

Accession Number: 20060815-0027.

Comment Date: 5 p.m. Eastern Time on Friday, September 1, 2006.

Docket Numbers: ER06-1355-000.

Applicants: Evergreen Wind Power, LLC.

Description: Application of Evergreen Wind Power LLC for order accepting initial tariff, waiving regulations & granting blanket approvals, & request for expedited consideraton & waiver of 60 day prior notice requirement.

Filed Date: 8/11/2006.

Accession Number: 20060815-0026.

Comment Date: 5 p.m. Eastern Time on Friday, September 1, 2006.

Docket Numbers: ER06-1356-000.

Applicants: Midwest Independent Transmission System.

Description: Midwest Independent Transmission System Operator, Inc. submits proposed revisions to Attachment L (Credit Policy) of its Open Access Transmission and Energy Markets Tariff.

Filed Date: 8/11/2006.

Accession Number: 20060815-0025.

Comment Date: 5 p.m. Eastern Time on Friday, September 1, 2006.

Docket Numbers: ER06-1357-000.

Applicants: Big Sandy Peaker Plant, LLC.

Description: Big Sandy Peaker Plant LLC submits its FERC Electric Tariff, Original Volume No 3 pursuant to which Big Sandy will provide Black Start Service to PJM Interconnection LLC.

Filed Date: 8/11/2006.

Accession Number: 20060815-0024.

Comment Date: 5 p.m. Eastern Time on Friday, September 1, 2006.

Docket Numbers: ER06-1358-000.

Applicants: Midwest Independent Transmission System.

Description: Midwest Independent Transmission System Operator, Inc. et al. submits proposed revisions to Attachment N-I of its ISO Open Access Transmission & Energy Markets Tariff, FERC Electric Tariff, Third Revised Volume 1.

Filed Date: 8/11/2006.

Accession Number: 20060816-0056.

Comment Date: 5 p.m. Eastern Time on Friday, September 1, 2006.

Docket Numbers: ER06-1359-000.

Applicants: PJM Interconnection, LLC.

Description: PJM Interconnection LLC submits revisions to the chart in Schedule 2 of the PJM Open Access Transmission Tariff to incorporate revised or new revenue requirements of FPL Energy Marcus Hook lP et al.

Filed Date: 8/11/2006.

Accession Number: 20060816-0058.

Comment Date: 5 p.m. Eastern Time on Friday, September 1, 2006.

Docket Numbers: ER06-1360-000.

Applicants: California Independent System Operator.

Description: California Independent System Operator Corp. on behalf of itself and Pacific Gas & Electric et al submits an amendment to the Transmission Control Agreement, Rate Schedule 7 among the ISO and the Participating Transmission Owners.

Filed Date: 8/11/2006.

Accession Number: 20060816-0250.

Comment Date: 5 p.m. Eastern Time on Friday, September 1, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-14008 Filed 8-23-06; 8:45 am]

BILLING CODE 6717-01-P